OFFICE OF PERSONNEL MANAGEMENT

Excepted Service

AGENCY: Office of Personnel Management (OPM).

ACTION: Notice.

SUMMARY: This notice identifies Schedule A, B, and C appointing authorities applicable to a single agency that were established or revoked from July 1, 2020 to July 31, 2020.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during July 2020.

Schedule B

No Schedule B Authorities to report during July 2020.

Schedule C

The following Schedule C appointing authorities were approved during July 2020.

Agency name | Organization name | Position title | Authorization No. | Effective date
DEPARTMENT OF AGRICULTURE | Rural Housing Service | Special Assistant | DA200027 | 07/06/2020
| Farm Service Agency | State Executive Director—Georgia | DA200096 | 07/27/2020
DEPARTMENT OF COMMERCE | Office of the Deputy Assistant Secretary for United States Field | Senior Advisor | DC200156 | 07/28/2020
| Immediate Office of the Secretary | Senior Advisor | DC200135 | 07/31/2020
| Office of the International Trade Administration | Senior Advisor | DC200137 | 07/15/2020
| Minority Business Development Agency | Senior Advisor | DC200155 | 07/20/2020
| Office of the General Counsel | Senior Counsel | DC200128 | 07/23/2020
DEPARTMENT OF DEFENSE | Office of the Secretary | Advance Officer | DD200202 | 07/02/2020
| Office of the Under Secretary of Defense (Personnel and Readiness) | Director of Communications for Personnel and Readiness | DD200196 | 07/10/2020
| Office of the Under Secretary of Defense (Policy) | Special Assistant | DD200206 | 07/27/2020
DEPARTMENT OF THE ARMY | Office of the Assistant Secretary of the Army (Acquisition, Logistics and Technology) | Special Assistant(Strategy and Acquisition Reform) | DW200042 | 07/15/2020
DEPARTMENT OF THE NAVY | Office of the Under Secretary of the Navy | Special Assistant | DN200032 | 07/02/2020
DEPARTMENT OF EDUCATION | Office of Communications and Outreach | Confidential Assistant | DB200065 | 07/02/2020
DEPARTMENT OF ENERGY | Office of the Assistant Secretary for Congressional and Intergovernmental Affairs | Legislative Affairs Assistant | DE200139 | 07/06/2020
| Office of the General Counsel | Attorney-Advisor | DE200162 | 07/02/2020
| Office of Public Affairs | Writer-Editor (Senior Speechwriter) | DE200084 | 07/02/2020
|  | Press Assistant | DE200140 | 07/31/2020
ENVIRONMENTAL PROTECTION AGENCY | Office of the Associate Administrator for Policy | Policy Advisor | EP200083 | 07/31/2020
| Office of the Assistant Administrator for Chemical Safety and Pollution Prevention | Public Liaison | EP200086 | 07/31/2020
GENERAL SERVICES ADMINISTRATION | National Capital Region | Confidential Assistant | GS200041 | 07/27/2020
DEPARTMENT OF HEALTH AND HUMAN SERVICES | Office of Intergovernmental and External Affairs | Senior Advisor, Center for Faith-Based and Neighborhood Partnerships | DH200136 | 07/19/2020
| Office of the Assistant Secretary for Health | Deputy Chief of Staff | DH200142 | 07/02/2020
| Office of the Assistant Secretary for Preparedness and Response | Confidential Assistant Special Assistant | DH200151 DH200150 | 07/27/2020 07/31/2020
| Office of the Deputy Secretary | Deputy Chief of Staff | DH200091 | 07/19/2020
| Office of the Secretary | Advance Representative | DH200134 | 07/02/2020
|  | Special Assistant | DH200129 | 07/06/2020
DEPARTMENT OF HOMELAND SECURITY | Federal Emergency Management Agency | Director of Congressional and Intergovernmental Affairs | DM200319 | 07/27/2020
| Office of Countering Weapons of Mass Destruction | Special Assistant | DM200307 | 07/22/2020
| Office of the Assistant Secretary for Policy | Senior Advisor | DM200334 | 07/28/2020
| Office of the Assistant Secretary for Public Affairs | Digital Director | DM200323 | 07/28/2020
| United States Customs and Border Protection | Deputy Chief of Staff, Policy | DM200313 | 07/22/2020
| United States Immigration and Customs Enforcement | Senior Advisor | DM200320 | 07/20/2020
DEPARTMENT OF HOUSING AND URBAN DEVELOPMENT | Office of the Chief Financial Officer | Special Assistant Senior Advisor | DU200126 DU200117 | 07/10/2020 07/16/2020
| Office of the Secretary | Special Assistant | DU200116 | 07/16/2020
DEPARTMENT OF THE INTERIOR | Secretary's Immediate Office | Writer | DI200097 | 07/28/2020
DEPARTMENT OF JUSTICE | Office of Justice Programs | Senior Advisor | DJ200107 | 07/02/2020
| Office of the Deputy Attorney General | Senior Advisor | DJ200119 | 07/02/2020
| Executive Office for United States Attorneys | Secretary (Office Automation) | DJ200120 | 07/27/2020
DEPARTMENT OF LABOR | Employment and Training Administration | Senior Policy Advisor Director of Special Projects | DL200096 DL200109 | 07/02/2020 07/08/2020
|  | Deputy Chief of Staff | DL200125 | 07/30/2020
| Office of Congressional and Intergovernmental Affairs | Legislative Assistant Regional Representative | DL200154 DL200153 | 07/09/2020 07/27/2020
| Office of the Secretary | Deputy Chief of Staff | DL200106 | 07/06/2020
|  | Special Assistant for Scheduling | DL200148 | 07/20/2020
|  | Special Assistant | DL200156 | 07/20/2020
|  | Senior Advisor | DL200130 | 07/27/2020
| Veterans Employment and Training Service | Chief of Staff and Policy Advisor Senior Advisor | DL200127 DL200159 | 07/30/2020 07/31/2020
NATIONAL TRANSPORTATION SAFETY BOARD | Office of Board Members | Special Assistant | TB200008 | 07/02/2020
OFFICE OF PERSONNEL MANAGEMENT | Office of Communications | Public Affairs Specialist | PM200057 | 07/14/2020
SMALL BUSINESS ADMINISTRATION | Office of Communications and Public Liaison | Press Assistant Senior Advisor | SB200031 SB200038 | 07/07/2020 07/31/2020
| Office of Congressional and Legislative Affairs | Legislative Assistant | SB200033 | 07/06/2020
| Office of the General Counsel | Deputy General Counsel | SB200034 | 07/11/2020
DEPARTMENT OF STATE | Office of the Counselor | Senior Advisor | DS200055 | 07/21/2020
| Office of the Secretary | Special Assistant (3) | DS200068 | 07/08/2020
|  |  | DS200064 | 07/15/2020
|  |  | DS200075 | 07/27/2020
| Office of the Under Secretary for Civilian Security, Democracy, and Human Rights | Senior Advisor | DS200086 | 07/27/2020
DEPARTMENT OF TRANSPORTATION | Office of Small and Disadvantaged Business Utilization | Special Assistant for Asian American Outreach | DT200124 | 07/27/2020
DEPARTMENT OF THE TREASURY | Secretary of the Treasury | Special Assistant (2) | DY200108 | 07/02/2020
|  |  | DY200111 | 07/11/2020
DEPARTMENT OF VETERANS AFFAIRS | Office of the Assistant Secretary for Congressional and Legislative Affairs | Special Assistant | DV200089 | 07/28/2020

The following Schedule C appointing authorities were revoked during July 2020.

Agency name | Organization name | Position title | Request No. | Date vacated
COMMODITY FUTURES TRADING COMMISSION | Office of the Chief Economist | Chief Economist | CT170011 | 07/03/2020
DEPARTMENT OF COMMERCE | Patent and Trademark Office | Special Advisor for Communications | DC190021 | 07/04/2020
OFFICE OF THE SECRETARY OF DEFENSE | Office of the Assistant Secretary of Defense (Strategy, Plans, and Capabilities) | Senior Advisor | DD170147 | 07/04/2020
| Office of the Under Secretary of Defense (Policy) | Special Assistant | DD190198 | 07/07/2020
| Office of the Under Secretary of Defense (Acquisition and Sustainment) | Special Assistant | DD190143 | 07/18/2020
| Washington Headquarters Services | Defense Fellow | DD180060 | 07/18/2020
| Office of the Under Secretary of Defense (Comptroller) | Special Assistant | DD190183 | 07/31/2020
DEPARTMENT OF ENERGY | Office of the General Counsel | Attorney Advisor | DE190159 | 07/04/2020
|  | Senior Oversight Advisor | DE190078 | 07/04/2020
| Office of Public Affairs | Press Secretary | DE180131 | 07/04/2020
|  | Writer-Editor (Speechwriter) | DE190034 | 07/04/2020
|  | Director of Strategic Communications and Messaging | DE170221 | 07/18/2020
| Office of Science | Senior Advisor | DE190155 | 07/04/2020
DEPARTMENT OF HEALTH AND HUMAN SERVICES | Office of the Secretary | Special Assistant to the Deputy Chief of Staff for Operations and Strategy | DH200040 | 07/03/2020
| Office of Communications | Speechwriter | DH190232 | 07/04/2020
| Office of the Assistant Secretary for Health | Advisor | DH190255 | 07/04/2020
DEPARTMENT OF JUSTICE | Office of Legal Policy | Senior Counsel | DJ200033 | 07/11/2020
|  | Counsel | DJ190090 | 07/18/2020
| Office of Justice Programs | Senior Advisor | DJ190201 | 07/31/2020
DEPARTMENT OF LABOR | Office of the Secretary | Special Assistant | DL200045 | 07/04/2020
DEPARTMENT OF THE INTERIOR | Secretary's Immediate Office | Deputy Press Secretary | DI190045 | 07/31/2020
DEPARTMENT OF THE TREASURY | Office of the Assistant Secretary for Terrorist Financing | Senior Counselor | DY190050 | 07/04/2020
ENVIRONMENTAL PROTECTION AGENCY | Office of the Assistant Administrator for International and Tribal Affairs | Director, American Indian Environmental Office | EP190082 | 07/18/2020
| Office of the Administrator | Special Advisor to the Deputy Chief of Staff for Operations | EP200028 | 07/31/2020
OFFICE OF MANAGEMENT AND BUDGET | Office of the Director | Special Assistant to the Director | BO190010 | 07/10/2020
SMALL BUSINESS ADMINISTRATION | Office of Field Operations | Director of Rural Affairs | SB190031 | 07/31/2020

Authority: 5 U.S.C. 3301 and 3302; E.O. 10577, 3 CFR, 1954-1958 Comp., p. 218.

Office of Personnel Management.
Alexys Stanley,
Regulatory Affairs Analyst.

[FR Doc. 2021-02259 Filed 2-3-21; 8:45 am]

BILLING CODE 6325-39-P